DEPARTMENT OF COMMERCE

National Oceanic and Atmospheric Administration

[Docket No.: 021108269-4015-02]

Climate Variability and Human Health, FY 2004 Joint Announcement

AGENCY: Office of Global Programs (OGP), Oceanic and Atmospheric Research (OAR), National Oceanic and Atmospheric Administration (NOAA), Department of Commerce (DOC). (In collaboration with NSF)

ACTION: Notice.

SUMMARY: With the intent of stimulating integrated multidisciplinary studies and enhancing institutional collaboration, the National Oceanic Atmospheric Administration (NOAA) and the National Science Foundation (NSF) announce our interest in receiving research proposals to improve understanding of the human health consequences related to climate variability and enhance the integration of useful climate information into public health policy and decision-making. This joint announcement is intended to support the formation of multidisciplinary teams working in close collaboration on integrated projects to illuminate the human, biological, and physical pathways by which climate may affect human health, and which explore the potential for applying climate and environmental information toward the goal of improved public health. We are also interested in understanding how the human health impacts and responses, on shorter time scales (i.e. seasonal, annual, decadal), affect our knowledge of vulnerability and adaptation to longer-term changes in the climate system.

DATES: Pre-proposals must be received by OGP no later than 5 p.m. eastern time February 27, 2004. Full proposals must be received at the Office of Global Programs no later than 5 p.m. eastern time April 23, 2004.

ADDRESSES: Full Proposals must be submitted to: Office of Global Programs (OGP); National Oceanic and Atmospheric Administration, 1100 Wayne Avenue, Suite 1210, Silver Spring, MD 20910-5603. Pre-proposals can be submitted by e-mail to ogpgrants@noaa.gov.

GENERAL INFORMATION CONTACT: Diane S. Brown, Grants Manager (see ADDRESSES), phone at 301-427-2089, ext. 107, fax to 301-427-2222, or e-mail at ogpgrants@noaa.gov.

SUPPLEMENTARY INFORMATION: Electronic Access: Applicants should read the full text of the full funding opportunity announcement, which can be accessed at OGP's Web site: http://www.ogp.noaa.gov or the central NOAA site: http://www.ofa.noaa.gov/~amd/SOLINDEX.HTML. This announcement will also be available through Grants.gov at: http://www.Grants.gov. The standard NOAA application kit is available on the OGP Web site at: http://www.ogp.noaa.gov/grants/appkit.htm.

Funding Availability: NOAA and NSF believe that research on the relationship between climate variability and human health will benefit significantly from a strong partnership with outside investigators. An estimated $1 million may be available for FY04. Current plans assume that over 50% of the total resources provided through this announcement will support extramural efforts, particularly those involving the broad academic community. Funding may be provided by NOAA or NSF. In previous years, three to seven grants have been awarded ranging from $50,000 to $250,000 per year. Past or current grantees funded under this announcement are eligible to apply for a new award which builds on previous activities or areas of research not covered in the previous award. Current grantees should not request supplementary funding for ongoing research through this announcement. Proposals may be for up to a three-year period. It is anticipated that the funding instrument for most of the extramural awards will be a grant, however, in some cases, if NOAA will be substantially involved in the implementation of the project, the funding instrument may be a cooperative agreement.

Statutory Authority: NOAA Authority: 15 U.S.C. 2931 et seq.; (CFDA No. 11.431)—Climate and Atmospheric Research. NSF Authority: 42 U.S.C. 1861-75; (CFDA No. 47.050)—Geosciences.

CFDA: No. 11.431, Climate and Atmospheric Research.

Eligibility: Participation in this competition is open to all institutions eligible to receive support from NOAA and NSF. For awards to be issued by NOAA, eligible applicants are institutions of higher education, hospitals, other nonprofits, commercial organizations, foreign governments, organizations under the jurisdiction of foreign governments, international organizations, state, local and Indian tribal governments and Federal agencies. Applications from non-Federal and Federal applicants will be competed against each other. Proposals selected for funding from non-Federal applicants will be funded through a project grant or cooperative agreement under the terms of this notice. Proposals selected for funding from NOAA employees shall be effected by an intragency funds transfer. Proposals selected for funding from a non-NOAA Federal Agency will be funded through an interagency transfer. Before non-NOAA Federal applicants may be funded, they must demonstrate that they have legal authority to receive funds from another federal agency in excess of their appropriation. Because this announcement is not proposing to procure goods or services from applicants, the Economy Act (31 U.S.C. 1535) is not an appropriate legal basis.

Cost Sharing Requirements: None.

Evaluation and Selection Procedures: NOAA published its first omnibus notice announcing the availability of grant funds for both projects and fellowships/scholarships/internships for Fiscal Year 2004 in the Federal Register on June 30, 2003 (68 FR 38678). The evaluation criteria and selection procedures contained in the June 30, 2003 omnibus notice are applicable to this solicitation. For a copy of the June 30, 2003 omnibus notice, please go to: http://www.ofa.noaa.gov/~amd/SOLINDEX.HTML.

Limitation of Liability: Funding for the program[s] listed in this notice is contingent upon the availability of Fiscal Year 2004 appropriations. NOAA issues this notice subject to the appropriations made available under the current continuing resolution, H.J. Res. 69, “Making continuing appropriations for the fiscal year 2004, and for other purposes,” Public Law 108-84, as amended by H.J. Res. 75, Public Law 108-104, H.J. Res. 76, Public Law 108-107, and H.J. Res. 79, Public Law 108-135. NOAA anticipates making awards for the programs listed in this notice provided that funding for the programs is continued beyond January 31, 2004, the expiration of the current continuing resolution. In no event will NOAA or the Department of Commerce be responsible for proposal preparation costs if these programs fail to receive funding or are cancelled because of other agency priorities. Publication of this announcement does not oblige NOAA to award any specific project or to obligate any available funds.

The Department of Commerce Pre-Award Notification Requirements for Grants and Cooperative Agreements: The Department of Commerce Pre-Award Notification Requirements for Grants and Cooperative Agreements contained in the Federal Register notice of October 1, 2002 (67 FR 49917), as amended by the Federal Register notice published on October 30, 2002 (67 FR 66109), are applicable to this solicitation.

Paperwork Reduction Act: This document contains collection-of-information requirements subject to the Paperwork Reduction Act (PRA). The use of Standard Forms 424 and 424A, 424B, SF-LLL, and CD-346 have been approved by OMB under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866: This notice has been determined to be not significant for purposes of Executive Order 12866.

Executive Order 13132 (Federalism): It has been determined that this notice does not contain policies with Federalism implications as that term is defined in Executive Order 13132.

Intergovernmental Review: Applications under this program are not subject to Executive Order 12372, “Intergovernmental Review of federal programs.”

Administrative Procedure Act/ Regulatory Flexibility Act: Prior notice and an opportunity for public comments are not required by the Administrative Procedure Act or any other law for this notice concerning grants, benefits, and contracts (5 U.S.C. section 553(a)). Because notice and opportunity for comment are not required pursuant to 5 U.S.C. 553 or any other law, the analytical requirements of the Regulatory Flexibility Act (5 U.S.C. section 601 et seq) are inapplicable. Therefore, a regulatory flexibility analysis has not been prepared.

Dated: January 23, 2004.
Louisa Koch,
Deputy Assistant Administrator, OAR, National Oceanic and Atmospheric Administration.

[FR Doc. 04-1897 Filed 1-28-04; 8:45 am]

BILLING CODE 3510-KB-P